DEPARTMENT OF TRANSPORTATION

Pipeline and Hazardous Materials Safety Administration

[Docket No. PHMSA-RSPA-2003-15122]

Pipeline Safety: Request for Special Permit; Texas Eastern Transmission, L.P.

AGENCY: Pipeline and Hazardous Materials Safety Administration (PHMSA), DOT.

ACTION: Notice.

SUMMARY: PHMSA is publishing this notice to solicit public comment on a request from Texas Eastern Transmission L.P., (TET) to renew a previously issued special permit. TET is seeking continued relief from compliance with certain requirements in the Federal pipeline safety regulations. At the conclusion of the 30-day comment period, PHMSA will review the comments received from this notice as part of its evaluation to grant or deny the special permit renewal request.

DATES: Submit any comments regarding this special permit request by April 27, 2020.

ADDRESSES: Comments should reference the docket number for this special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two (2) copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 Code of Federal Regulations (CFR) § 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and these items will not be placed in the public docket of this notice. Submissions containing CBI should be sent to Kay McIver, DOT, PHMSA-PHP-80, 1200 New Jersey Avenue SE, Washington, DC 20590-0001. Any commentary PHMSA receives that is not specifically designated as CBI will be placed in the public docket for this matter.

FOR FURTHER INFORMATION CONTACT: General: Ms. Kay McIver by telephone at 202-366-0113, or by email at kay.mciver@dot.gov.

Technical: Mr. Joshua Johnson by telephone at 816-329-3825, or by email at joshua.johnson@dot.gov.

SUPPLEMENTARY INFORMATION: PHMSA received a special permit renewal request from TET, owned by Enbridge, Inc., to continue its pipeline operation as described in the special permit renewal issued on May 15, 2015. The current special permit term ends May 15, 2020. The original special permit was issued to TET by PHMSA on August 27, 2004. TET's special permit renewal request submitted to PHMSA on November 6, 2019, seeks to waive compliance from the requirements of 49 CFR 192.611, “Change in class location: Confirmation or revision of maximum allowable operating pressure.” TET requests a renewal of this special permit in lieu of pipe replacement or pressure reduction for 42 special permit segments. The 42 special permit segments include 22 segments containing 6.76 miles of 24-inch diameter pipe designated as Line 12 and 20 segments containing 5.86 miles of 30-inch diameter pipe designated as Line 19. The special permit segments are located in Perry, Berks, Huntingdon, Juniata, Montgomery and Bucks Counties located in Pennsylvania, and in Hunterdon County in New Jersey. The special permit renewal will allow for the continued operation of the original Class 1 pipe in the Class 2 locations.

The TET Line 12 and Line 19 pipelines have a maximum allowable operating pressure of 1,050 pounds per square inch gauge in the special permit segments.

TET's special permit renewal request and existing special permit with conditions are available for review and public comment in the Docket No. PHMSA-RSPA-2003-15122. PHMSA invites interested persons to review and submit comments on the special permit renewal request in the docket. Please include any comments on potential safety and environmental impacts that may result if the special permit renewal is granted. Comments may include relevant data.

Before issuing a decision on the special permit renewal request, PHMSA will evaluate all comments received on or before the comment closing date. Comments received after the closing date will be evaluated, if it is possible to do so without incurring additional expense or delay. PHMSA will consider each relevant comment it receives in making its decision to grant or deny this special permit renewal request.

Issued in Washington, DC, under authority delegated in 49 CFR 1.97.
Alan K. Mayberry,
Associate Administrator for Pipeline Safety.

[FR Doc. 2020-06378 Filed 3-26-20; 8:45 am]

BILLING CODE 4910-60-P